DEPARTMENT OF COMMERCE

National Oceanic and Atmospheric Administration

[RTID 0648-XE902]

Gulf Fishery Management Council; Public Meeting

AGENCY: National Marine Fisheries Service (NMFS), National Oceanic and Atmospheric Administration (NOAA), Commerce.

ACTION: Notice of hybrid meeting.

SUMMARY: The Gulf Fishery Management Council (Council) will hold a two-day meeting to consider actions affecting the Gulf of America fisheries in the exclusive economic zone (EEZ). The meeting is open to the public offering both in-person (limited seating) and virtual options for participation.

DATES: The meeting will convene Tuesday, June 3, 2025 through Wednesday, June 4, 2025. Daily schedule as follows: Tuesday, June 3, from 8:30 a.m. to 4:15 p.m., and Wednesday, June 4, from 8:30 a.m. to 3:15 p.m., EDT.

ADDRESSES: The meeting will take place at the Gulf Council headquarters, located at address listed below. If you prefer to “listen in,” you may access the log-on information by visiting our website at www.gulfcouncil.org.

Council address: Gulf Fishery Management Council, 4107 W Spruce Street, Suite 200, Tampa, FL 33607; telephone: (813) 348-1630.

FOR FURTHER INFORMATION CONTACT: Dr. Carrie Simmons, Executive Director, Gulf Council; telephone: (813) 348-1630.

SUPPLEMENTARY INFORMATION:

Tuesday, June 3, 2025; 8:30 a.m.-4:15 p.m., EDT

The Council will begin with the Reef Fish Committee discussing the 2025 Recreational Gag Grouper Season, review of FINAL ACTION: Draft Framework: Other Shallow-water Grouper Catch Limits, receive a meeting summary from the May 8, 2025 Scientific and Statistical Committees (SSC) Report and hold a discussion on Executive Order (E.O.) Restoring American Seafood Competitiveness.

The Reef Fish Committee will review and discuss Amendment 58A: Shallow-water Grouper Complex Catch Level Management Considerations, Public Hearing Draft: Reef Fish Amendment 58B: Modifications to Deep-water Grouper Management Measures and discuss Red Grouper Documents for Emergency Rule for 2025 and Plan Amendment and Management Actions.

The Mackerel Committee will convene to review and discuss FINAL ACTION: Modification to the Gulf Migratory Group Spanish Mackerel Catch Limits (Amendment 14).

Wednesday, June 4, 2025; 8:30 a.m.-3:15 p.m., EDT

The Ecosystem Committee will convene to discuss recommendations to the Fishery Ecosystem Plan, Red Tide Fishery Ecosystem Issue Pilot and any remaining Ecosystem Technical Committee Recommendations.

The Council will convene at approximately 10:15 a.m., EDT with a Call to Order, Announcements and Introductions, Adoption of Agenda and Approval of Minutes; and receive a presentation on the 2024 Law Enforcement Team of the Year Award.

The Council will hold public testimony from 10:25 a.m. to 12:30 p.m., EDT to take FINAL ACTION on (a). Modification to the Gulf Migratory Group Spanish Mackerel Catch Limits Amendment 14, (b). Draft Framework: Other Shallow-water Grouper Catch Limits, (c) E.O. Restoring American Seafood Competitiveness; and open testimony on any other fishery issues or concerns. Public comment may begin earlier than 10:25 a.m., EDT but will not conclude before that time. Persons wishing to give public testimony in-person must register at the registration kiosk in the meeting room. Persons wishing to give public testimony virtually must sign up on the Council website on the day of public testimony. Registration for virtual testimony closes one hour (9:25 a.m., EDT) before public testimony begins.

The Council will receive committee reports from the Mackerel, Reef Fish and Ecosystem Committees, update on Council Funding and discuss Council Planning and Primary Activities, and Other Business items, if any.

—Meeting Adjourns

The meeting will be a hybrid meeting; both in-person (limited seating) and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during this meeting. Actions will be restricted to those issues specifically listed in this notice and any issues arising after publication of this notice that require emergency action under Section 305(c) of the Magnuson-Stevens Act, provided that the public has been notified of the Council's intent to take final action to address the emergency.

Special Accommodations

This meeting is physically accessible to people with disabilities. Requests for sign language interpretation or other auxiliary aid or accommodations should be directed to Kathy Pereira, (813) 348-1630, at least 15 days prior to the meeting date.

Authority: 16 U.S.C. 1801 et seq.

Dated: May 8, 2025.
Rey Israel Marquez,
Acting Deputy Director, Office of Sustainable Fisheries, National Marine Fisheries Service.

[FR Doc. 2025-08377 Filed 5-12-25; 8:45 am]

BILLING CODE 3510-22-P